DEPARTMENT OF ENERGY

Federal Energy Regulatory Commission

Combined Notice of Filings #1

Take notice that the Commission received the following electric rate filings:

Docket Numbers: ER22-336-001.

Applicants: Southwest Power Pool, Inc.

Description: Tariff Amendment: 3864 Seven Cowboy Wind Project IGIA—Deficiency Response to be effective 10/15/2021.

Filed Date: 1/12/22.

Accession Number: 20220112-5062.

Comment Date: 5 p.m. ET 2/2/22.

Docket Numbers: ER22-487-001.

Applicants: Southwest Power Pool, Inc.

Description: Tariff Amendment: 3870 White Rock Wind West GIA—Deficiency Response to be effective 11/9/2021.

Filed Date: 1/12/22.

Accession Number: 20220112-5059.

Comment Date: 5 p.m. ET 2/2/22.

Docket Numbers: ER22-805-000.

Applicants: Midcontinent Independent System Operator, Inc.

Description: § 205(d) Rate Filing: 2022-01-12_SA 3453 Ameren Illinois-Dressor Plains Solar 1st Rev GIA (J811) to be effective 12/28/2021.

Filed Date: 1/12/22.

Accession Number: 20220112-5056.

Comment Date: 5 p.m. ET 2/2/22.

Docket Numbers: ER22-806-000.

Applicants: Midcontinent Independent System Operator, Inc.

Description: § 205(d) Rate Filing: 2022-01-12_SA 3366 Termination of Calhoun Solar-Consumers Energy FCA (J758) to be effective 1/13/2022.

Filed Date: 1/12/22.

Accession Number: 20220112-5058.

Comment Date: 5 p.m. ET 2/2/22.

Docket Numbers: ER22-807-000.

Applicants: CPV Keenan II Renewable Energy Company, LLC.

Description: § 205(d) Rate Filing: Category 1 Status Filing to be effective 3/14/2022.

Filed Date: 1/12/22.

Accession Number: 20220112-5066.

Comment Date: 5 p.m. ET 2/2/22.

Docket Numbers: ER22-808-000.

Applicants: Alabama Power Company.

Description: § 205(d) Rate Filing: Solarpack Develop.m.ent (Warrenton Solar) LGIA Filing to be effective 12/28/2021.

Filed Date: 1/12/22.

Accession Number: 20220112-5075.

Comment Date: 5 p.m. ET 2/2/22.

Docket Numbers: ER22-809-000.

Applicants: PJM Interconnection, L.L.C.

Description: § 205(d) Rate Filing: Amendment to ISA, SA No. 2987; Queue No. AC1-073 (amend) to be effective 4/4/2018.

Filed Date: 1/12/22.

Accession Number: 20220112-5092.

Comment Date: 5 p.m. ET 2/2/22.

Docket Numbers: ER22-810-000.

Applicants: Bicent (California) Malburg LLC.

Description: Tariff Amendment: Notice of Cancellation to be effective 1/13/2022.

Filed Date: 1/12/22.

Accession Number: 20220112-5096.

Comment Date: 5 p.m. ET 2/2/22.

Docket Numbers: ER22-811-000.

Applicants: PacifiCorp.

Description: § 205(d) Rate Filing: Exelon NITSA (OR DA) SA 943 Rev 3 to be effective 1/1/2022.

Filed Date: 1/12/22.

Accession Number: 20220112-5098.

Comment Date: 5 p.m. ET 2/2/22.

Docket Numbers: ER22-812-000.

Applicants: ITC Midwest LLC.

Description: § 205(d) Rate Filing: Filing of Fifth Amended and Restated Corn Belt-IPL IA to be effective 3/14/2022.

Filed Date: 1/12/22.

Accession Number: 20220112-5110.

Comment Date: 5 p.m. ET 2/2/22.

Docket Numbers: ER22-813-000.

Applicants: New York Independent System Operator, Inc.

Description: § 205(d) Rate Filing: NYISO Section 205 filing of LGIA among NYISO, LIPA and Peconic SA No. 2672 to be effective 12/31/2021.

Filed Date: 1/12/22.

Accession Number: 20220112-5115.

Comment Date: 5 p.m. ET 2/2/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2022.
Debbie-Anne A. Reese,
Deputy Secretary.

[FR Doc. 2022-00929 Filed 1-18-22; 8:45 am]

BILLING CODE 6717-01-P